DEPARTMENT OF ENERGY

Federal Energy Regulatory Commission

[Docket No. CP25-233-000]

Magnum Gas Storage, LLC; Notice of Revised Schedule for Environmental Review of the 2025 Amendment Project

This notice identifies the Federal Energy Regulatory Commission staff's revised schedule for the completion of the environmental assessment (EA) for Magnum Gas Storage, LLC's (Magnum) 2025 Amendment Project.¹ The first notice of schedule, issued on June 26, 2025, identified November 13, 2025, as the EA issuance date. However, following a series of staff data requests, Magnum indicated that it will not file a response regarding the project's construction emissions until November 25, 2025. As this information is needed to determine the level of construction-related air quality effects and for the Commission to understand whether a General Conformity Determination is required for the project, staff has revised the schedule for issuance of the EA. The issuance date is also contingent on the quality of information provided by Magnum. The EA will be issued for a 30-day comment period.

¹ For tracking purposes under the National Environmental Policy Act, the unique identification number for documents relating to this environmental review is EAXX-019-20-000-1750685312.

Schedule for Environmental Review

Issuance of the EA—December 19, 2025

90-day Federal Authorization Decision Deadline ²—March 18, 2026

² The Commission's deadline applies to the decisions of other federal agencies, and state agencies acting under federally delegated authority, that are responsible for federal authorizations, permits, and other approvals necessary for proposed projects under the Natural Gas Act. Per 18 CFR 157.22(a), the Commission's deadline for other agency's decisions applies unless a schedule is otherwise established by federal law.

If a schedule change becomes necessary, additional notice will be provided so that the relevant agencies are kept informed of the project's progress.

Additional Information

In order to receive notification of the issuance of the EA and to keep track of all formal issuances and submittals in specific dockets, the Commission offers a free service called eSubscription. This can reduce the amount of time you spend researching proceedings by automatically providing you with notification of these filings, document summaries, and direct links to the documents. Go to https://www.ferc.gov/ferc-online/overview to register for eSubscription.

For public inquiries and assistance with making filings such as interventions, comments, or requests for rehearing, contact the Office of Public Participation at (202) 502-6595 or OPP@ferc.gov.

Additional information about the Project is available from the FERC website (www.ferc.gov). Using the “eLibrary” link, select “General Search” from the eLibrary menu, enter the selected date range and “Docket Number” excluding the last three digits (i.e., CP25-233), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

(Authority: 18 CFR 2.1)

Dated: November 10, 2025.
Debbie-Anne A. Reese,
Secretary.

[FR Doc. 2025-20919 Filed 11-24-25; 8:45 am]

BILLING CODE 6717-01-P